DEPARTMENT OF COMMERCE

Bureau of Industry and Security

[Docket No. 030930242-3242-01]

National Defense Stockpile Market Impact Committee Request for Public Comments on the Potential Market Impact of Proposed Stockpile Disposals in FY 2004 and FY 2005

Correction

In notice document 03-26106 beginning on page 59581 in the issue of Thursday, October 16, 2003, make the following correction:

On page 59582, Attachment 1 should appear as follows:

Attachment 1—Proposed Revision to FY 2004 Annual Material Plan (AMP) and Proposed FY 2005 AMP
Material | Units | Current FY 2004 quantity | Revised FY 2004 quantity | Proposed FY 2005 quantity
Aluminum Oxide, Abrasive | ST | 6,000 |  | ¹ 6,000
Bauxite, Refractory | LCT | ¹ 43,000 |  | ¹ 43,000
Beryl Ore | ST | ¹ 4,000 |  | ¹ 4,000
Beryllium Metal | ST | 40 |  | 40
Beryllium Copper Master Alloy | ST | ¹ 1,200 |  | ¹ 1,200
Cadmium | LB | ¹ 400,000 |  | 0
Celestite | SDT | ¹ 12,794 |  | ¹ 6,000
Chromite, Chemical | SDT | ¹ 100,000 |  | ¹ 100,000
Chromite, Refractory | SDT | ¹ 100,000 |  | ¹ 100,000
Chromium, Ferro | ST | 150,000 | 110,000 | 110,000
Chromium, Metal | ST | 500 |  | 500
Cobalt | LB Co | 6,000,000 |  | 6,000,000
Columbium Concentrates (Minerals) | LB Cb | 560,000 |  | 560,000
Columbium Metal Ingots | LB Cb | 20,000 |  | 20,000
Diamond Stone | ct | ¹ 600,000 |  | ¹ 400,000
Fluorspar, Acid Grade | SDT | ¹ 12,000 |  | ¹ 12,000
Fluorspar, Metallurgical Grade | SDT | ¹ 60,000 |  | ¹ 60,000
Germanium | KG | 8,000 |  | 8,000
Graphite | ST | ¹ 2,000 |  | 0
Iodine | LB | 1,000,000 |  | 1,000,000
Jewel Bearings | PC | ¹ 82,051,558 |  | ¹ 82,051,558
Kyanite | SDT | 0 | 50 | 0
Lead | ST | 60,000 |  | ¹ 60,000
Manganese, Battery Grade Natural | SDT | 30,000 |  | 30,000
Manganese, Battery Grade Synthetic | SDT | ¹ 3,011 |  | ¹ 3,011
Manganese, Chemical Grade | SDT | 40,000 |  | ¹ 40,000
Manganese, Ferro | ST | 50,000 |  | 50,000
Manganese, Metal Electrolytic | ST | 2,000 |  | ¹ 2,000
Manganese, Metallurgical Grade | SDT | ¹ 250,000 |  | ¹ 250,000
Mica (All Types) | LB | ¹ 5,000,000 |  | ¹ 1,000,000
Palladium | Tr Oz | ¹ ³ 200,000 |  | ¹ ³ 100,000
Platinum | Tr Oz | ¹ 25,000 |  | ¹ 25,000
Platinum—Iridium | Tr Oz | 6,000 |  | 6,000
Quartz Crystals | LB | ¹ 150,000 |  | ¹ 25,000
Quinidine | Oz | ¹ 2,211,122 |  | 0
Sebacic Acid | LB | 600,000 |  | ¹ 600,000
Talc | ST | ¹ 1,000 |  | ¹ 1,000
Tantalum Carbide Powder | LB Ta | ¹ 4,000 |  | ¹ 4,000
Tantalum Metal Ingots | LB Ta | ¹ 40,000 |  | ¹ 40,000
Tantalum Metal Powder | LB Ta | ¹ 40,000 |  | ¹ 40,000
Tantalum Minerals | LB Ta | 500,000 |  | ¹ 500,000
Tantalum Oxide | LB Ta | 20,000 |  | 20,0001
Thorium Nitrate | LB | ¹ ² 7,100,000 |  | ¹ ² 7,100,000
Tin | MT | 12,000 |  | 12,000
Titanium Sponge | ST | 7,000 |  | ¹ 7,000
Tungsten, Ferro | LB W | 300,000 |  | 300,000
Tungsten, Metal Powder | LB W | 300,000 |  | 300,000
Tungsten Ores & Concentrates | LB W | 4,000,000 |  | 4,000,000
Vegetable Tannin Extract, Chestnut | LT | 0 | 250 | ¹ 250
Vegetable Tannin Extract, Quebracho | LT | 50,000 |  | ¹ 50,000
Vegetable Tannin Extract, Wattle | LT | 0 | 6,500 | ¹ 6,500
Zinc | ST | 50,000 |  | 50,000
Notes:
¹ Actual quantity will be limited to remaining sales authority or inventory.
² The radioactive nature of this material may restrict sales or disposal options. Efforts are underway to determine the environmentally and economically feasible disposition of the material.
³ Pending legislative authority.

[FR Doc. C3-26106 Filed 10-21-03; 8:45 am]

BILLING CODE 1505-01-D